DEPARTMENT OF THE INTERIOR

Fish and Wildlife Service

Draft Low Effect Habitat Conservation Plan for the University of California, Davis 2001-2002 Campus Projects, Yolo County, CA

AGENCY: Fish and Wildlife Service, Interior.

ACTION: Notice of availability.

SUMMARY: The University of California, Davis (the “applicant”) has applied to the Fish and Wildlife Service (Service) for 10-year incidental take permit for 1 covered species pursuant to section 10(a)(1)(B) of the Endangered Species Act of 1973, as amended (Act). The applications address the potential for “take” of threatened valley elderberry longhorn beetle (Desmoncerus californicus dimorphus) associated with various development activities within the University of California, Davis campus, a 5,300-acre area in portions of Yolo and Solano counties. These activities (the “covered activities”) include 10.15 acres of planned land development, and management of a mitigation site. A conservation program to minimize and mitigate for the covered activities would be implemented as described in the University of California, Davis Low Effect Habitat Conservation Plan for 2001-2002 Campus Projects (Plan), which would be implemented by the applicant.

The Service requests comments on the permit application and on the preliminary determination that the Plan qualifies as a “Low-effect” Habitat Conservation Plan, eligible for a categorical exclusion under the National Environmental Policy Act. The basis for this determination is discussed in Environmental Action Statement, which is also available for public review.

DATES: Written comments should be received on or before July 24, 2002.

ADDRESSES: Comments should be addressed to the Field Supervisor, Fish and Wildlife Service, Sacramento Fish and Wildlife Office, 2800 Cottage Way, W-2605, Sacramento, California 95825. Written comments may be sent by facsimile to (916) 414-6711.

FOR FURTHER INFORMATION CONTACT: Ms. Vicki Campbell, Chief, Conservation Planning Division, at the Sacramento Fish and Wildlife Office (see ADDRESSES); telephone: (916) 414-6600.

SUPPLEMENTARY INFORMATION:

Availability of Documents

Individuals wishing copies of the application, Plan, and Environmental Action Statement should immediately contact the Service by telephone at (916) 414-6600 or by letter to the Sacramento Fish and Wildlife Office [see ADDRESSES]. Copies of the Plan, and Environmental Action Statement also are available for public inspection, during regular business hours, at the Sacramento Fish and Wildlife Office [see ADDRESSES]; University of California, Davis, Office of Resource Management and Planning, One Shields Avenue, 376 Mark Hall, Davis, California 95616; and, University of California, Davis, Shields Library, Reserve Room, Davis, California 95616.

Background Information

Section 9 of the Act and Federal regulation prohibit the “take” of animal species listed as endangered or threatened. Take is defined under the Act as harass, harm, pursue, hunt, shoot, wound, kill, trap, capture or collect listed animal species, or attempt to engage in such conduct (16 U.S.C. 1538). However, under limited circumstances, the Service may issue permits to authorize “incidental take” of listed animal species. “Incidental take” is defined by the Act as take that is incidental to, and not the purpose of, carrying out of an otherwise lawful activity. Regulations governing permits for threatened species and endangered species, respectively, are at 50 CFR 17.32 and 50 CFR 17.22.

The applicant is seeking permits for take of the federally listed threatened valley elderberry longhorn beetle (Desmocerus californicus dimorphus) during the life of the permit. This species is referred to as the “covered species” in the Plan.

The project encompasses five different sites; the Genome Launch Facility, the Cole Facility Stormwater Improvements, the Center for Companion Animal Health, the NEES Facility, and Phase 2B Electrical Improvement project. The Genome Launch Facility includes the construction of an approximately 21,000 square foot laboratory building, including extending utilities along existing utility corridors, converting an existing parking area and gravel driveway to landscaping, and replacing a paved road with a sidewalk and landscaping. The Cole Facility Stormwater Improvements consists of implementing stormwater drainage improvements, including installing new rain gutters and down spouts on 5 buildings in the Cole Equestrian Facility, installing new storm piping to collect rainwater from the downspouts of 13 roofs (currently runs onto the ground within animal stall areas), and install a new sewer line that will drain an existing storm line into the sewer system. The Center for Companion Animal Health project includes the construction of an approximately 10,000 square foot veterinary medicine building and parking lot. The project would involve the removal of an existing building and pasture land currently located onsite. The NEES Facility project is the construction of a 4,720 square foot building. The Phase 2B Electrical Improvement project consists of replacing approximately two miles of above ground electrical distribution lines, including replacing poles, conductors, insulators and other miscellaneous mounting hardware.

Six elderberry shrubs, containing 130 stems, greater than 1-inch at the ground level, at the Genome Launch Facility site will be impacted by the project. Four elderberry shrubs, containing 21 stems greater than 1-inch at the ground level, at the Cole Facility Stormwater Improvements site will be impacted by the project. Two elderberry shrubs, containing six stems greater than one inch at the ground level, at the Center for Companion Animal Health site will be impacted by the project. Several shrubs occur within or adjacent to the Cole Facility Stormwater Improvements site, NEES Facility, and Phase 2B Electrical Improvement project that will not be impacted by the proposed projects through implementation of avoidance measures described within the Service's 1999 Conservation Guidelines for Valley Elderberry Longhorn Beetles. The project sites contain potential habitat for the federally-threatened valley elderberry longhorn beetle. The project sites do not contain any other rare, threatened, or endangered species or habitat. No critical habitat for any listed species occurs on the project site. Construction of the proposed projects would result in the avoidance of 28 elderberry shrubs and the removal of 12 elderberry shrubs, with 157 stems greater than 1-inch diameter at ground level, which have been determined to be habitat for the valley elderberry longhorn beetle. No beetle exit holes were found in these 12 shrubs.

The applicant proposes to avoid, minimize and mitigate the effects to the covered species associated with the covered activities by implementing their Plan and adhering to the Service's 1999 Conservation Guidelines. The purpose of this conservation program is to promote biological conservation in conjunction with economic and urban development within the campus of University of California, Davis. As mitigation, the applicant will transplant 10 of the 12 elderberry shrubs, and plant 243 elderberry seedlings and 243 native riparian plant seedlings on 2.01-acres of the Russell Ranch conservation area. The 158-acre Russell Ranch is owned and managed by the applicant, and was established in 1994 for use by the University of California, Davis for mitigation from various future projects. In addition to mitigation, the Plan also includes measures to avoid and minimize take of the valley elderberry longhorn beetle.

The Proposed Action consists of the issuance of an incidental take permit and implementation of the Plan, which included measures to avoid, minimize and mitigate impacts of the project on the valley elderberry longhorn beetle. Three alternatives to the taking of listed species under the Proposed Action are considered in the Plan. Under the No Action Alternative, no permit would be issued. Under the Alternative Site Alternative, new facilities would be built at alternate sites. Under the Reduced Project Alternative, the size and scope of the new facilities and improvements to existing facilities would be reduced.

The Service has made a preliminary determination that the Plan qualifies as a “low-effect” plan as defined by its Habitat Conservation Planning Handbook (November 1996). Determination of low-effect Habitat Conservation Plans is based on the following three criteria: (1) Implementation of the Plan would result in minor or negligible effects on federally listed, proposed, and candidate species and their habitats; (2) implementation of the Plan would result in minor or negligible effects on other environmental values or resources; and (3) impacts of the Plan, considered together with the impacts of other past, present and reasonably foreseeable similarly situated projects would not result, over time, in cumulative effects to environmental values or resources which would be considered significant. As more fully explained in the Service's Environmental Action Statement, the Plan qualifies as a “low-effect” plan for the following reasons:

1. Approval of the Plan would result in minor or negligible effects on the valley elderberry longhorn beetle and its habitat. The Service does not anticipate significant direct or cumulative effects to the valley elderberry longhorn beetle resulting from development of the Genome Launch Facility, Cole Facility, Center for Companion Animal Health areas, NEES Facility, and Phase 2B Electrical Improvement project, or from the management of the mitigation site on the Russell Ranch.

2. Approval of the Plan would not have adverse effects on unique geographic, historic or cultural sites, or involve unique or unknown environmental risks.

3. Approval of the Plan would not result in any cumulative or growth inducing impacts and, therefore, would not result in significant adverse effects on public health or safety.

4. The project does not require compliance with Executive Order 11988 (Floodplain Management), Executive Order 11990 (Protection of Wetlands), or the Fish and Wildlife Coordination Act, nor does it threaten to violate a Federal, State, local or tribal law or requirement imposed for the protection of the environment.

5. Approval of the Plan would not establish a precedent for future action or represent a decision in principle about future actions with potentially significant environmental effects.

The Service therefore has preliminarily determined that approval of the Plan qualifies as a categorical exclusion under the National Environmental Policy Act, as provided by the Department of the Interior Manual (516 DM 2, Appendix 1 and 516 DM 6, Appendix 1). Based upon this preliminary determination, we do not intend to prepare further National Environmental Policy Act documentation. The Service will consider public comments in making its final determination on whether to prepare such additional documentation.

The Service provides this notice pursuant to section 10(c) of the Act. We will evaluate the permit application, the Plan, and comments submitted thereon to determine whether the application meets the requirements of section 10(a) of the Act. If the requirements are met, the Service will issue a permit to University of California, Davis for the incidental take of the valley elderberry longhorn beetle from development of the new Genome Launch Facility, Cole Facility, Center for Companion Animal Health areas, NEES Facility, and Phase 2B Electrical Improvement project, and the management of the mitigation site on Russell Ranch. We will make the final permit decision no sooner than 30 days from the date of this notice.

Dated: June 14, 2002.
D. Kenneth McDermond,
Deputy Manager, Region 1, California/Nevada Operations Office, Sacramento, California.

[FR Doc. 02-15831 Filed 6-21-02; 8:45 am]

BILLING CODE 4310-55-P